DEPARTMENT OF DEFENSE

48 CFR Part 213

[DFARS Case 2000-D019]

Defense Federal Acquisition Regulation Supplement; Overseas Use of the Purchase Card in Contingency, Humanitarian, or Peacekeeping Operations

AGENCY: Department of Defense (DoD).

ACTION: Proposed rule with request for comments.

SUMMARY: The Director of Defense Procurement is proposing to amend the Defense Federal Acquisition Regulation Supplement (DFARS) to permit contracting officers supporting a contingency, humanitarian, or peacekeeping operation to use the Governmentwide commercial purchase card on a stand-alone basis for purchases valued at or below the simplified acquisition threshold. Use of the purchase card streamlines purchasing and payment procedures and, therefore, increases operational efficiency.

DATES: Comments on the proposed rule should be submitted in writing to the address shown below on or before November 20, 2000, to be considered in the formation of the final rule.

ADDRESSES: Interested parties should submit written comments on the proposed rule to: Defense Acquisition Regulations Council, Attn: Ms. Susan L. Schneider, OUSD (AT&L) DP (DAR), IMD 3D139, 3062 Defense Pentagon, Washington, DC 20301-3062. Telefax (703) 602-0350.

E-mail comments submitted via the Internet should be addressed to: dfars@acq.osd.mil.

Please cite DFARS Case 2000-D019 in all correspondence related to this proposed rule. E-mail correspondence should cite DFARS Case 2000-D019 in the subject line.

FOR FURTHER INFORMATION CONTACT: Ms. Susan Schneider, (703) 602-0326.

SUPPLEMENTARY INFORMATION:

A. Background

This rule proposes to amend the policy at DFARS 213.301 to permit contracting officers supporting a contingency operation, as defined in 10 U.S.C. 101(a)(13), or a humanitarian or peacekeeping operation, as defined in 10 U.S.C. 2302(8), to use the Governmentwide commercial purchase card on a stand-alone basis for purchases valued at or below the simplified acquisition threshold. In accordance with FAR 2.101, the simplified acquisition threshold for contingency, humanitarian, or peacekeeping operations is $200,000.

Use of the purchase card at the $200,000 threshold would be subject to the existing conditions at DFARS 213.301 and the following additional conditions: (1) The supplies or services must be immediately available; and (2) Only one delivery and one payment will be made. These additional conditions are similar to those placed on contingency contracting officers using the Standard Form 44, Purchase Order-Invoice-Voucher, in accordance with FAR 13.306 and DFARS 213.306.

This rule was not subject to Office of Management and Budget review under Executive Order 12866, dated September 30, 1993.

B. Regulatory Flexibility Act

The proposed rule is not expected to have a significant economic impact on a substantial number of small entities within the meaning of the Regulatory Flexibility Act, 5 U.S.C. 601, et seq., because the rule applies only to purchases that are made outside the United States for use outside the United States in support of contingency, humanitarian, or peacekeeping operations. Therefore, DoD has not performed an initial regulatory flexibility analysis. DoD invites comments from small businesses and other interested parties. DoD also will consider comments from small entities concerning the affected DFARS subpart in accordance with 5 U.S.C. 610. Such comments should be submitted separately and should cite DFARS Case 2000-D019.

C. Paperwork Reduction Act

The Paperwork Reduction Act does not apply because the rule does not impose any information collection requirements that require the approval of the Office of Management and Budget under 44 U.S.C. 3501, et seq.

List of Subjects in 48 CFR Part 213

Government procurement.

Michele P. Peterson,
Executive Editor, Defense Acquisition Regulations Council.

Therefore, DoD proposes to amend 48 CFR Part 213 as follows:

1. The authority citation for 48 CFR Part 213 continues to read as follows:

Authority: 41 U.S.C. 421 and 48 CFR Chapter 1.

PART 213—SIMPLIFIED ACQUISITION PROCEDURES

2. Section 213.301 is amended by adding paragraph (3) to read as follows:

213.301 Governmentwide commercial purchase card.

* * * * *

(3) A contracting officer supporting a contingency operation as defined in 10 U.S.C. 101(a)(13) or a humanitarian or peacekeeping operation as defined in 10 U.S.C. 2302(8) also may use the Governmentwide commercial purchase card to make a purchase that exceeds the micro-purchase threshold but does not exceed the simplified acquisition threshold, if—

(i) The supplies or services being purchased are immediately available;

(ii) One delivery and one payment will be made; and

(iii) The requirements of paragraphs (2)(i) and (ii) of this section are met.

[FR Doc. 00-24140 Filed 9-19-00; 8:45 am]

BILLING CODE 5000-04-M